DEPARTMENT OF ENERGY

International Energy Agency Meetings

AGENCY: Department of Energy.

ACTION: Notice of meetings.

SUMMARY: The Industry Advisory Board (IAB) to the International Energy Agency (IEA) will meet on June 14, 2017, at the Conference Centre of the French Ministry of Foreign Affairs, 27, Rue de la Convention, 75015 Paris, France, in connection with a joint meeting of the IEA's Standing Group on Emergency Questions (SEQ) and the IEA's Standing Group on the Oil Market (SOM) on June 15, 2017, in connection with a meeting of the SEQ on that day and on June 15, 2017.

DATES: June 14-15, 2017.

ADDRESSES: 27, Rue de la Convention, 75015 Paris, France

FOR FURTHER INFORMATION CONTACT: Thomas Reilly, Assistant General Counsel for International and National Security Programs, Department of Energy, 1000 Independence Avenue SW., Washington, DC 20585, 202-586-5000.

SUPPLEMENTARY INFORMATION: In accordance with section 252(c)(1)(A)(i) of the Energy Policy and Conservation Act (42 U.S.C. 6272(c)(1)(A)(i)) (EPCA), the following notice of meetings is provided:

A meeting of the Industry Advisory Board (IAB) to the International Energy Agency (IEA) will be held at the Centre de Conférence Ministériel of the French Ministry of Foreign Affairs Building, 27, Rue de la Convention, 75015 Paris, France, commencing at 9:30 a.m. on June 14, 2017. The purpose of this notice is to permit attendance by representatives of U.S. company members of the IAB at a meeting of the IEA's Standing Group on Emergency Questions (SEQ), which is scheduled to be held at the same location and time. The IAB will also hold a preparatory meeting among company representatives at the same location at 8:30 a.m. on June 14. The agenda for this preparatory meeting is to review the agenda for the SEQ meeting. The agenda of the SEQ meeting is under the control of the SEQ. It is expected that the SEQ will adopt the following agenda:

Draft Agenda of the 151st Meeting of the SEQ to be held at the Centre de Conférence Ministériel of the French Ministry of Foreign Affairs Building 27, Rue de la Convention, 75015 Paris, France, 14 June 2017, beginning at 9:30 a.m.

Closed SEQ Session—IEA Member Countries Only

1. Adoption of the Agenda

2. Approval of the Summary Record of the 150th Meeting

3. Status of Compliance with IEP Agreement Stockholding Obligations

4. Update on Oil Umbrella concept

5. Mexican ERA & Accession Status Update

6. Non-OECD Bilateral Stocks

Open SEQ Session—Open to Association Countries

7. Emergency Response Review of Austria

8. Industry Advisory Board Update

9. Mid-term Review of New Zealand

10. Emergency Response Review of Australia

11. Outreach: —Thailand ERE; —APERC ERE

12. Mid-term review of Canada

13. Update on cyber security & digitalization

14. Oral Reports by Administrations—JOGMEC training for China (Japan)

15. Other Business: —Update on legal study; —ERE 9; —ERR Programme

Schedule of SEQ & SOM Meetings: —2017: —12-14 September 2017 2018: —20-22 March 2018; —19-21 June 2018; —27-29 November 2018

A meeting of the Industry Advisory Board (IAB) to the International Energy Agency (IEA) will be held at the Conference Centre of the French Ministry of Foreign Affairs, 27, Rue de la Convention, 75015 Paris, France, commencing at 09:45 on June 15, 2017. The purpose of this notice is to permit attendance by representatives of U.S. company members of the IAB at a joint meeting of the IEA's Standing Group on Emergency Questions (SEQ) and the IEA's Standing Group on the Oil Market (SOM), which is scheduled to be held at the same location and time. The agenda of the meeting is under the control of the SEQ and the SOM. It is expected that the SEQ and the SOM will adopt the following agenda:

Draft Agenda of the Joint Session of the SEQ and the SOM to be held at the Conference Centre of the French Ministry of Foreign Affairs 27, Rue de la Convention, 75015 Paris, France 15 June 2017, beginning at 09:45

Start meeting/Introduction

1. Adoption of the Agenda

2. Approval of Summary Record of 20 March 2017

3. Reports on Recent Oil Market and Policy Developments in IEA Countries

4. Update on the Current Oil Market Situation: followed by Q&A

5. Presentation: “OPEC” followed by Q&A

6. Presentation: “Tanker tracking?” followed by Q&A

7. Presentation followed by Q&A—External speaker (Rystad Energy)

8. Presentation followed by Q&A—Oral report by the Secretariat

9. Presentation: “Oil Storage Trends & Latest IEA Forecasts for Storage” followed by Q&A

10. Presentation: “Energy and Climate: A View to 2040” followed by Q&A

11. Other Business—Tentative schedule of SEQ and SOM meetings on: 12-14 September 2017, location TBC

As provided in section 252(c)(1)(A)(ii) of the Energy Policy and Conservation Act (42 U.S.C. 6272(c)(1)(A)(ii)), the meetings of the IAB are open to representatives of members of the IAB and their counsel; representatives of members of the IEA's Standing Group on Emergency Questions and the IEA's Standing Group on the Oil Markets; representatives of the Departments of Energy, Justice, and State, the Federal Trade Commission, the General Accounting Office, Committees of Congress, the IEA, and the European Commission; and invitees of the IAB, the SEQ, the SOM, or the IEA.

Issued in Washington, DC, June 5, 2017.
Thomas Reilly,
Assistant General Counsel for International and National Security Programs.

[FR Doc. 2017-11997 Filed 6-8-17; 8:45 am]

BILLING CODE 6450-01-P